DEPARTMENT OF THE INTERIOR

Bureau of Safety and Environmental Enforcement

[Docket ID BSEE-2012-0017]

Draft Safety Culture Policy Statement: Request for Public Comments

AGENCY: Bureau of Safety and Environmental Enforcement (BSEE), Interior.

ACTION: Notice.

SUMMARY: The Bureau of Safety and Environmental Enforcement (BSEE) is issuing this Draft Statement of Policy to announce its expectation that individuals and organizations performing or overseeing activities regulated by BSEE establish and maintain a positive safety culture commensurate with the significance of their activities and the nature and complexity of their organizations and functions. The BSEE defines safety culture as the core values and behaviors resulting from a collective commitment by leaders and individuals to emphasize safety, over competing goals, to ensure protection of people and the environment. This draft policy statement would apply to all lessees, the owners or holders of operating rights, designated operators or agents of the lessee(s), pipeline right-of-way holders, State lessees granted a right-of-use and easement, and contractors. The BSEE is requesting comments on the Draft Safety Culture Policy Statement and associated questions.

DATES: Submit comments by March 20, 2013. The BSEE may not fully consider comments received after this date.

ADDRESSES: You may submit comments on this notice by any of the following methods. Please use Draft Safety Culture Policy Statement as an identifier in your message. See also Public Availability of Comments below.

• Federal eRulemaking Portal: http://www.regulations.gov. In the entry titled “Enter Keyword or ID,” enter BSEE-2012-0017 then click search. Follow the instructions to submit public comments and view supporting and related materials available for this notice. The BSEE will post all comments.

• Email: Keith.Petka@bsee.gov.

• Mail or hand-carry comments to the Department of the Interior; Bureau of Safety and Environmental Enforcement; Attention: Regulations and Standards Branch (RSB); 381 Elden Street, HE-3313, Herndon, Virginia 20170-4817. Please reference, Draft Safety Culture Policy Statement in your comments and include your name and return address.

Public Availability of Comments

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Keith Petka, Safety and Environmental Management Systems Branch at (703) 787-1762 to request additional information.

SUPPLEMENTARY INFORMATION:

I. Background

A major component of each report that has followed the Deepwater Horizon explosion and resulting oil spill is the recommendation to improve the safety culture upon the Outer Continental Shelf (OCS). The Department of the Interior Outer Continental Shelf Safety Oversight Board's Report to Secretary Ken Salazar (2010) advocated a program that would “create and maintain industry, worker, and regulator awareness of, and commitment to, measures that will achieve human safety and environmental protection” that would also rely heavily on the industry to “make a widespread, forceful and long-term commitment to cultivating a serious approach to safety that sets the highest safety standards and consistently meets them.”

The National Commission on the Deepwater Horizon Oil Spill and Offshore Drilling (2011) observed, “Government oversight must be accompanied by the oil and gas industry's internal reinvention: Sweeping reforms that accomplish no less than a fundamental transformation of its safety culture.” The National Commission recommended looking at the nuclear industry for an example of drastic improvement in safety culture. Following the partial meltdown in 1979 of the radioactive core in Unit Two at the Three Mile Island Nuclear Generating Station, the Nuclear Regulatory Commission (NRC), the U.S. government's regulatory agency for the nuclear industry, began initiatives to help influence the safety culture of the nuclear energy industry toward continuous improvement. One of these initiatives was to work with the nuclear industry and public to develop a formal policy on the NRC's expectations for a strong and effective safety culture.

The BSEE has reviewed the NRC's safety culture policy and believes it provides a strong foundation for a similar approach for oil and gas operations on the OCS, with the ultimate goal of facilitating the continued development of a robust safety culture for all persons working on the OCS.

II. Statement of Policy

It is BSEE's policy that a strong safety culture is an essential element for individuals, both internal to the BSEE and external, performing or overseeing regulated activities. As such, BSEE will include appropriate means to monitor safety culture in its oversight programs and internal management processes. The BSEE defines safety culture as the core values and behaviors resulting from a collective commitment by leaders and individuals to emphasize safety over competing goals to ensure protection of people and the environment. Further, it is important for all lessees, the owners or holders of operating rights, designated operators or agents of the lessee(s), pipeline right-of-way holders, State lessees granted a right-of-use and easement, and contractors to foster in personnel an appreciation for the importance of safety, emphasizing the need for its integration and balance with competing performance objectives to achieve optimal protection without compromising production goals.

Individuals and organizations performing regulated activities bear the primary responsibility for safety.

Experience has shown that certain personal and organizational characteristics are present in a positive safety culture. A characteristic, in this case, is a pattern of thinking, feeling, and behaving that emphasizes safety, particularly in goal conflict situations (e.g., production, schedule, and the cost of the effort versus safety).

The following are characteristics of a robust safety culture:

(1) Leadership Safety Values and Actions—Leaders demonstrate a commitment to safety in their decisions and behaviors;

(2) Problem Identification and Resolution—Issues potentially impacting safety are promptly identified, fully evaluated, and promptly addressed and corrected commensurate with their significance;

(3) Personal Accountability—All individuals take personal responsibility for safety;

(4) Work Processes—The process of planning and controlling work activities is implemented so that safety is maintained;

(5) Continuous Learning—Opportunities to learn about ways to ensure safety are sought out and implemented;

(6) Environment for Raising Concerns—A safety conscious work environment is maintained where personnel feel free to raise safety concerns without fear of retaliation, intimidation, harassment, or discrimination;

(7) Effective Safety Communication—Communications maintain a focus on safety;

(8) Respectful Work Environment—Trust and respect permeate the organization; and

(9) Inquiring Attitude—Individuals avoid complacency and continuously consider and review existing conditions and activities in order to identify discrepancies that might result in error or inappropriate action.

There may be traits not included in this Draft Safety Culture Policy Statement that are also important in a positive safety culture. It should be noted that these traits were not developed to be used for inspection purposes.

III. Questions for Which BSEE Is Seeking Input

The previous discussion addressed BSEE's approach to safety culture policy going forward and we would like your input. We will consider any comments that you feel would be beneficial to this policy. We welcome your input, your experiences, and your knowledge. The BSEE welcomes any comments on all content in this notice, but we specifically welcome your input on the following items.

(1) The draft Safety Culture Policy Statement provides a description of attributes that are important to safety culture, (i.e., safety culture characteristics). What characteristics relevant to a particular type of OCS activity do not appear to be addressed in this notice?

(2) What safety culture characteristics, described in the draft Safety Culture Policy Statement, do not contribute to safety culture on the OCS and, therefore, should not be included?

(3) The draft Safety Culture Policy Statement defines safety culture as: “The core values and behaviors resulting from a collective commitment by leaders and individuals to emphasize safety over competing goals to ensure protection of people and the environment.” Please comment on any parts of this definition that need further clarification to be useful for operations on the OCS.

(4) The draft policy statement states, “[I]t is important for all lessees, the owners or holders of operating rights, designated operators or agents of the lessee(s), pipeline right-of-way holders, State lessees granted a right-of-use and easement, and contractors to foster in personnel an appreciation for the importance of safety, emphasizing the need for its integration and balance with competing performance objectives to achieve optimal protection without compromising production goals.” Given the diversity among OCS activities regulated by BSEE, please comment on the need to provide further clarification on this statement.

(5) How well does the draft Safety Culture Policy Statement enhance organization's understanding of BSEE's expectations that they maintain a safety culture?

(6) In addition to issuing a Safety Culture Policy Statement, what might BSEE consider doing, or doing differently, to increase OCS attention to safety culture?

(7) How can BSEE better involve stakeholders to address safety culture?

To ensure efficient consideration of your comments, please identify the specific question numbers with your comments when applicable.

Dated: December 13, 2012.
James A. Watson,
Director, Bureau of Safety and Environmental Enforcement.

[FR Doc. 2012-30670 Filed 12-19-12; 8:45 am]

BILLING CODE 4310-VH-P